DEPARTMENT OF TRANSPORTATION

Federal Motor Carrier Safety Administration

[Docket No. FMCSA-2010-0201]

Qualification of Drivers; Exemption Applications; Vision

AGENCY: Federal Motor Carrier Safety Administration (FMCSA), DOT.

ACTION: Notice of applications for exemptions; request for comments.

SUMMARY: FMCSA announces receipt of applications from 15 individuals for exemption from the vision requirement in the Federal Motor Carrier Safety Regulations. If granted, the exemptions would enable these individuals to qualify as drivers of commercial motor vehicles (CMVs) in interstate commerce without meeting the Federal vision standard.

DATES: Comments must be received on or before October 12, 2010.

ADDRESSES: You may submit comments bearing the Federal Docket Management System (FDMS) Docket No. FMCSA-2010-0201 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE, Washington, DC, between 9 a.m. and 5 p.m., Monday through Friday, except Federal holidays. The FDMS is available 24 hours each day, 365 days each year. If you want acknowledgment that we received your comments, please include a self-addressed, stamped envelope or postcard or print the acknowledgment page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE, Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 15 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

James B. Bierschbach

Mr. Bierschbach, age 50, has had amblyopia in his left eye since childhood. The best corrected visual acuity in his right eye is 20/15 and in his left eye, 20/70. Following an examination in 2010, his optometrist noted, “In my medical opinion, this patient has sufficient vision to perform the driving tasks required to operate a commercial vehicle safely.” Mr. Bierschbach reported that he has driven straight trucks for 22 years, accumulating 1.3 million miles and tractor-trailer combinations for 5 years, accumulating 525,000 miles. He holds a Class A Commercial Driver's License (CDL) from Minnesota. His driving record for the last 3 years shows no crashes and no convictions for moving violations in a CMV.

John P. Catalano

Mr. Catalano, 44, has had amblyopia in his left eye since childhood. The best corrected visual acuity in his right eye is 20/20 and in his left eye, 20/50. Following an examination in 2010, his optometrist noted, “In my medical opinion, he has sufficient vision to perform the driving tasks required to operate a commercial vehicle.” Mr. Catalano reported that he has driven straight trucks for 26 years, accumulating 1 million miles. He holds a Class D operator's license from New Jersey. His driving record for the last 3 years shows no crashes and no convictions for moving violations in a CMV.

Tyrone O. Friese

Mr. Friese, 61, has had a prosthetic left eye due to trauma since 1981. The best corrected visual acuity in his right eye is 20/20. Following an examination in 2010, his optometrist noted, “In my medical opinion, Mr. Friese has sufficient vision to perform the driving tasks required to operate a commercial vehicle.” Mr. Friese reported that he has driven straight trucks for 44 years, accumulating 440,000 miles and tractor-trailer combinations for 14 years, accumulating 280,000 miles. He holds a Class A CDL from Minnesota. His driving record for the last 3 years shows no crashes and no convictions for moving violations in a CMV.

Randy M. Lane

Mr. Lane, 46, has had amblyopia in his right eye since childhood. The best corrected visual acuity in his right eye is count-finger vision only and in his left eye, 20/30. Following an examination in 2010, his ophthalmologist noted, “My medical opinion is that Randy has sufficient vision to perform the driving tasks required to operate a commercial vehicle.” Mr. Lane reported that he has driven straight trucks for 15 years, accumulating 75,000 miles. He holds a Class B CDL from Pennsylvania. His driving record for the last 3 years shows one crash, for which he was not cited, and no convictions for moving violations in a CMV.

Mark E. Lapp

Mr. Lapp, 45, has a prosthetic left eye due to a traumatic injury sustained in 1990. The best corrected visual acuity in his right eye is 20/16. Following an examination in 2010, his ophthalmologist noted, “It is in my medical opinion that he has sufficient vision to operate a commercial vehicle.” Mr. Lapp reported that he has driven straight trucks for 23 years, accumulating 23,000 miles. He holds a Class A CDL from Pennsylvania. His driving record for the last 3 years shows no crashes and no convictions for moving violations in a CMV.

David S. Matheny

Mr. Matheny, 51, has had amblyopia in his left eye since birth. The best corrected visual acuity in his right eye is 20/20 and in his left eye, count-finger vision only. Following an examination in 2010, his optometrist noted, “It is my professional opinion that Mr. David Matheny's vision with corrective lenses is sufficient to perform the driving tasks required to operate a commercial vehicle.” Mr. Matheny reported that he has driven tractor-trailer combinations for 4 years, accumulating 400,000 miles. He holds a Class A CDL from Washington. His driving record for the last 3 years shows no crashes and no convictions for moving violations in a CMV.

Frank G. Merrill

Mr. Merrill, 62, has had amblyopia in his left eye since birth. The best corrected visual acuity in his right eye is 20/20 and in his left eye, count-finger vision only. Following an examination in 2010, his optometrist noted, “In my opinion, individuals amblyopic in one and normal peripheral vision function very well in everyday life and driving, whether personal or commercial.” Mr. Merrill reported that he has driven straight trucks for 45 years, accumulating 450,000 miles and tractor-trailer combinations for 45 years, accumulating 450,000 miles. He holds a Class D operator's license from Oklahoma. His driving record for the last 3 years shows no crashes and no convictions for moving violations in a CMV.

Shannon L. Puckett

Mr. Puckett, 33, has had amblyopia in his right eye since birth. The best corrected visual acuity in his right eye is 20/140 and in his left eye, 20/20. Following an examination in 2010, his optometrist noted, “It is my medical opinion that he does have sufficient vision to perform the driving tasks required to operate a commercial vehicle.” Mr. Puckett reported that he has driven tractor-trailer combinations for 11 years, accumulating 1.1 million miles. He holds a Class A CDL from Kentucky. His driving record for the last 3 years shows no crashes and no convictions for moving violations in a CMV.

Leo S. Ruiz, Jr.

Mr. Ruiz, 59, has had macular scarring in his left eye since childhood. The best corrected visual acuity in his right eye is 20/25 and in his left eye, 20/200. Following an examination in 2010, his ophthalmologist noted, “In my opinion, Mr. Ruiz has sufficient vision to operate a commercial vehicle.” Mr. Ruiz reported that he has driven straight trucks for 2 years, accumulating 100,000 miles and tractor-trailer combinations for 31 years, accumulating 1.7 million miles. He holds a Class A CDL from California. His driving record for the last 3 years shows no crashes and one conviction for a moving violation in a CMV. He was cited for a cell phone violation.

Ronald B. Shafer

Mr. Shafer, 66, has had amblyopia in his left eye since childhood. The best corrected visual acuity in his right eye is 20/20 and in his left eye, 20/400. Following an examination in 2010, his optometrist noted, “Mr. Shafer should have sufficient vision to operate a commercial vehicle.” Mr. Shafer reported that he has driven straight trucks for 15 years, accumulating 39,000 miles. He holds a Class C chauffeur's license from Michigan. His driving record for the last 3 years shows no crashes and no convictions for moving violations in a CMV.

Thomas M. Sharp

Mr. Sharp, 50, has had a prosthetic right eye due to trauma since 1982. The best corrected visual acuity in his left eye is 20/15. Following an examination in 2010, his ophthalmologist noted, “I expect that Mr. Sharp's condition will remain stable and in my opinion, has more than adequate vision to operate a commercial vehicle.” Mr. Sharp reported that he has driven straight trucks for 30 years, accumulating 525,000 miles and tractor-trailer combinations for 8 years, accumulating 24,000 miles. He holds a Class A CDL from Maine. His driving record for the last 3 years shows no crashes and no convictions for moving violations in a CMV.

Ranjodh Singh

Mr. Singh, 30, has had complete loss of vision in his left eye since childhood due to trauma. The best corrected visual acuity in his right eye is 20/20. Following an examination in 2010, his ophthalmologist noted, “In our expert opinion, Mr. Singh has sufficient vision to perform the driving tasks required to operate a commercial vehicle.” Mr. Singh reported that he has driven tractor-trailer combinations for 5 years, accumulating 350,000 miles. He holds a Class A CDL from California. His driving record for the last 3 years shows no crashes and one conviction for a moving violation in a CMV. He exceeded the speed limit by 11 miles per hour.

Kenneth M. Sova

Mr. Sova, 48, has had amblyopia in his right eye since childhood. The best corrected visual acuity in his right eye is 20/60 and in his left eye, 20/20. Following an examination in 2010, his ophthalmologist noted, “I feel that Mr. Sova has sufficient peripheral visual fields and should not affect his ability to operate a commercial vehicle.” Mr. Sova reported that he has driven straight trucks for 27 years, accumulating 67,500 miles. He holds an operator's license from Indiana. His driving record for the last 3 years shows no crashes and one conviction for a moving violation in a CMV. He was cited for an improper turn at an intersection.

Mark A. Thornton

Mr. Thornton, 48, lost his left eye due to a traumatic injury sustained in 1985. The best corrected visual acuity in his right eye is 20/20. Following an examination in 2010, his ophthalmologist noted, “Mark has been driving commercially since 1980 and has sufficient vision in his right eye to operate a commercial vehicle in the same way.” Mr. Thornton reported that he has driven straight trucks for 25 years, accumulating 3 million miles and tractor-trailer combinations for 30 years, accumulating 3.6 million miles. He holds a Class A CDL from Washington. His driving record for the last 3 years shows no crashes and no convictions for a moving violation in a CMV.

Earl L. White, Jr.

Mr. White, 66, has had amblyopia in his left eye since birth. The best corrected visual acuity in his right eye is 20/25 and in his left eye, 20/200. Following an examination in 2010, his optometrist noted, “In my opinion, Mr. White has adequate vision to perform the driving tasks required to operate a commercial motor vehicle.” Mr. White reported that he has driven straight trucks for 40 years, accumulating 5.5 million miles. He holds a Class A CDL from New Hampshire. His driving record for the last 3 years shows no crashes and one conviction for a moving violation in a CMV. He was cited for operating a CMV while uninsured.

Request for Comments

In accordance with 49 U.S.C. 31136(e) and 31315, FMCSA requests public comment from all interested persons on the exemption petitions described in this notice. The Agency will consider all comments received before the close of business October 12, 2010. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: August 28, 2010.
Larry W. Minor,
Associate Administrator for Policy and Program Development.

[FR Doc. 2010-22479 Filed 9-8-10; 8:45 am]

BILLING CODE 4910-EX-P